DEPARTMENT OF COMMERCE

International Trade Administration

Initiation of Antidumping and Countervailing Duty Administrative Reviews and Requests for Revocation in Part

AGENCY: Import Administration, International Trade Administration, Department of Commerce.

ACTION: Notice of Initiation of Antidumping and Countervailing Duty Administrative Reviews and Requests for Revocation in Part.

SUMMARY: The Department of Commerce has received requests to conduct administrative reviews of various antidumping and countervailing duty orders and findings with June anniversary dates. In accordance with the Department's regulations, we are initiating those administrative reviews. The Department also received requests to revoke two antidumping duty orders in part.

EFFECTIVE DATE: June 24, 2002.

FOR FURTHER INFORMATION CONTACT: Holly Kuga, Office of AD/CVD Enforcement, Import Administration, International Trade Administration, U.S. Department of Commerce, 14th Street and Constitution Avenue, NW, Washington, DC 20230, telephone: (202)482-4737.

SUPPLEMENTARY INFORMATION:

Background

The Department has received timely requests, in accordance with 19 CFR 351.213(b)(2000), for administrative reviews of various antidumping and countervailing duty orders and findings with June anniversary dates. The Department also received timely requests to revoke in part the antidumping duty orders on Certain Stainless Steel Butt-Weld Pipe Fittings from Taiwan and Polyethylene Terephthalate Film, Sheet and Strip (Pet Film) from the Republic of Korea.

Initiation of Reviews

In accordance with section 19 CFR 351.221(c)(1)(i), we are initiating administrative reviews of the following antidumping and countervailing duty orders and findings. We intend to issue the final results of these reviews not later than June 30, 2003.

| Period to be reviewed
Antidumping Duty Proceedings
Japan:
Hot-Rolled Flat-Rolled Carbon-Quality Steel Products, A-588-846 | 06/01/01-05/31/02
Kawasaki Steel Corporation
Sumitomo Metal Industries, Ltd.
Certain Large Diameter Carbon and Alloy Seamless Standard, Line, and Pressure Pipe, A-588-850 | 06/01/01-05/31/02
Kawasaki Steel Corporation
NKK Tubes
Sumitomo Metal Industries, Ltd.
Certain Small Diameter Carbon and Alloy Seamless Standard, Line, and Pressure Pipe, A-588-851 | 06/01/01-05/31/02
Kawasaki Steel Corporation
NKK Tubes
Sumitomo Metal Industries, Ltd.
Republic of Korea:
Polyethylene Terephthalate Film, Sheet and Strip (Pet Film), A-580-807 | 06/01/01-05/31/02
Hyosung Corporation
Taiwan:
Certain Stainless Steel Butt-Weld Pipe Fittings, A-583-816 | 06/01/01-05/31/02
Liang Feng Stainless Steel Fitting Co., Ltd.
Ta Chen Stainless Steel Pipe, Ltd.
Tru-Flow Industrial Co., Ltd.
The People's Republic of China:
Certain Non-Frozen Apple Juice Concentrate ¹, A-570-855 | 06/01/01-05/31/02
Shaanxi Haisheng Fresh Fruit Juice Co., Ltd.
Sanmenxia Lakeside Fruit Juice Co., Ltd.
SDIC ZhongLu Fruit Juice Co.
Yantai Oriental Juice Co., Ltd.
Qingdao Nannan Foods Co., Ltd.
Xian Asia Qin Fruit Co., Ltd.
Xianyang Fuan Juice Co., Ltd.
Changsha Industrial Products & Minerals Import & Export Co.
Shandong Foodstuffs Import & Export Corporation
Shaanxi Hengxing Fruit Juice Co., Ltd.
Shaanxi Machinery and Equipment Import and Export Corporation
Shaanxi Gold Peter Natural Drink Co., Ltd.
Synthetic Indigo ², A-570-856 | 06/01/01-05/31/02
Liyang Skyblue Chemical Co., Ltd.
Silicon Metal ³, A-570-806 | 06/01/01-05/31/02
Groupstars Chemical Co., Ltd.
China Shanxi Province Lin Fen Prefecture Foreigh Trade Import and Export Corp.
Tapered Roller Bearings,⁴ A-570-601 | 06/01/01-05/31/02
China National Machinery Import & Export Corp.
Liaoning MEC Group Co., Ltd.
Luoyang Bearing Corporation
Peer Bearing Company-Changshan
Tianshui Hailin Import & Export Corp.
Wanxiang Group Corporation
Yantai Timken Co., Ltd.
Countervailing Duty Proceedings: None
Suspension Agreements: None
¹ If one of the above named companies does not quality for a separate rate, all other exporters of non-frozen apple juice concentrate from the People's Republic of China who have not qualified for a separate rate are deemed to be covered by this review as part of the single PRC entity of which the named exporters are a part.
² If one of the above named companies does not qualify for a separate rate, all other exporters of synthetic indigo from the People's Republic of China who have not qualified for a separate rate are deemed to be covered by this review as part of the single PRC entity of which the named exporter is a part.
³ If one of the above named companies does not qualify for a separate rate, all other exporters of silicon metal from the People's Republic of China who have not qualified for a separate rate are deemed to be covered by this review as part of the single PRC entity of which the named exporter is a part.
⁴ If one of the above named companies does not qualify for a separate rate, all other exporters of tapered roller bearings from the People's Republic of China who have not qualified for a separate rate are deemed to be covered by this review as part of the single PRC entity of which the named exporter is a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)) and 19 CFR 351.221(c)(1)(i).

Dated: July 18, 2002.
Holly A. Kuga,
Senior Office Director, Group II, Office 4, Import Administration.

[FR Doc. 02-18730 Filed 7-23-02; 8:45 am]

BILLING CODE 3510-DS-P